FEDERAL COMMUNICATIONS COMMISSION

[FRS 16552]

Federal Advisory Committee Act; Communications Security, Reliability, and Interoperability Council

AGENCY: Federal Communications Commission.

ACTION: Amendment to notice of public meeting

SUMMARY: In accordance with the Federal Advisory Committee Act, this notice advises interested persons that the Federal Communications Commission's (FCC or Commission) Communications Security, Reliability, and Interoperability Council (CSRIC) VII will hold its fourth meeting via live internet link.

DATES: March 17, 2020.

ADDRESSES: The Meeting will be held via conference call and available to the public via WebEx at http://www.fcc.gov/live.

FOR FURTHER INFORMATION CONTACT: Suzon Cameron, Designated Federal Officer, (202) 418-1916 (voice) or CSRIC@fcc.gov (email); or, Kurian Jacob, Deputy Designated Federal Officer, (202) 418-2040 (voice) or CSRIC@fcc.gov (email).

SUPPLEMENTARY INFORMATION: The notice of this meeting was first published in the Federal Register on February 25, 2020. This amendment is to inform the public that the meeting will be held electronically only.

The meeting will be held on March 17, 2020, at 1:00 p.m. EDT and may be viewed live, by the public, at http://www.fcc.gov/live. Any questions that arise during the meeting should be sent to CSRIC@fcc.gov and will be answered at a later date. The meeting is being moved to a wholly electronic format in light of travel restrictions affecting members of the CSRIC related to the ongoing increase in coronavirus (COVID-19) cases.

The CSRIC is a Federal Advisory Committee that will provide recommendations to the FCC to improve the security, reliability, and interoperability of communications systems. On March 15, 2019, the FCC, pursuant to the Federal Advisory Committee Act, renewed the charter for CSRIC VII for a period of two years through March 14, 2021. The meeting on March 17, 2020, will be the fourth meeting of CSRIC VII under the current charter.

The Commission will provide audio and/or video coverage of the meeting over the internet from the FCC's web page at http://www.fcc.gov/live. The public may submit written comments before the meeting to Suzon Cameron, CSRIC Designated Federal Officer, by email CSRIC@fcc.gov or U.S. Postal Service Mail to Suzon Cameron, Senior Attorney, Cybersecurity and Communications Reliability Division, Public Safety and Homeland Security Bureau, Federal Communications Commission, 445 12th Street SW, Room 7-B458, Washington, DC 20554. Open captioning will be provided for this event. Other reasonable accommodations for people with disabilities are available upon request. Requests for such accommodations should be submitted via email to fcc504@fcc.gov or by calling the Consumer & Governmental Affairs Bureau at (202) 418-0530 (voice), (202) 418-0432 (tty). Such requests should include a detailed description of the accommodation needed. In addition, please include a way the FCC can contact you if it needs more information. Please allow at least five days' advance notice; last-minute requests will be accepted but may be impossible to fill.

Good Cause for Late Notice: This Amendment to Notice of public meeting is being published less than 15 days before the meeting date of March 17, 2020. There is good cause for this late notice. Specifically, travel restrictions affecting members of the CSRIC VII related to the ongoing increase in COVID-19 cases, have led the Commission to conclude that, in an abundance of caution, an electronic meeting is appropriate. The Commission has also announced this amendment to the public meeting by Public Notice posted on https://www.fcc.gov/about-fcc/advisory-committees/communications-security-reliability-and-interoperability-council-vii.

Federal Communications Commission.
Marlene Dortch,
Secretary.

[FR Doc. 2020-05470 Filed 3-16-20; 8:45 am]

BILLING CODE 6712-01-P